DEPARTMENT OF COMMERCE

Foreign-Trade Zones Board

[B-33-2018]

Foreign-Trade Zone (FTZ) 12—McAllen, Texas; Authorization of Limited Production Activity; Black & Decker (U.S.), Inc. (Indoor and Outdoor Power Tools and Related Components) Mission, Texas

On June 1, 2018, Black & Decker (U.S.), Inc., submitted a notification of proposed production activity to the FTZ Board for its facility within FTZ 12—Site 4, in Mission, Texas.

The notification was processed in accordance with the regulations of the FTZ Board (15 CFR part 400), including notice in the Federal Register inviting public comment (83 FR 26948, June 11, 2018). On October 1, 2018, the applicant was notified of the FTZ Board's decision that further review of part of the proposed activity is warranted. The FTZ Board authorized the production activity described in the notification on a limited basis, subject to the FTZ Act and the Board's regulations, including Section 400.14, and further subject to a restriction requiring that lithium-ion batteries and related components (lithium-ion cells, assembly housings, cell holders, front insert covers, cover housings, and latches) be admitted to the zone in privileged foreign status (19 CFR 146.41).

Dated: October 2, 2018.
Andrew McGilvray,
Executive Secretary.

[FR Doc. 2018-21848 Filed 10-5-18; 8:45 am]

BILLING CODE 3510-DS-P